DEPARTMENT OF VETERANS AFFAIRS

Advisory Committee on the Readjustment of Veterans, Notice of Availability of Annual Report

Under section 10(b) of Public Law 92-463 (Federal Advisory Committee Act) notice is hereby given that the Fifth Annual Report of the Advisory Committee on the Readjustment of Veterans has been issued. The Report provides an assessment of veterans' readjustment needs, a review of the Department of Veterans Affairs' (VA) services and programs available to meet these needs and VA's comments regarding the actions recommended by the Committee.

It is available for public inspection at two locations:

Mr. Edward L. Malone, Jr., Federal Advisory Committee Desk, Library of Congress, Anglo-American Acquisition Division, Government Documents Section, Room LM-B42, 101 Independence Avenue, SE, Washington, DC 20540-4172,

and

Department of Veterans Affairs, Readjustment Counseling Service, VA Central Office, Suite 854, 810 Vermont Avenue, NW, Washington, DC 20420.

Dated: June 13, 2001.
Ventris C. Gibson,
Committee Management Officer.

[FR Doc. 01-16107 Filed 6-26-01; 8:45 am]

BILLING CODE 8320-01-M